DEPARTMENT OF THE INTERIOR

National Park Service

[NPS-WASO-NAGPRA-NPS0039215; PPWOCRADN0-PCU00RP14.R50000]

Notice of Inventory Completion: Vanderbilt University, Nashville, TN

AGENCY: National Park Service, Interior.

ACTION: Notice.

SUMMARY: In accordance with the Native American Graves Protection and Repatriation Act (NAGPRA), Vanderbilt University has completed an inventory of human remains and has determined that there is no lineal descendant and no Indian Tribe or Native Hawaiian organization with cultural affiliation.

DATES: Upon request, repatriation of the human remains in this notice may occur on or after January 17, 2025.

ADDRESSES: Steve Wernke, Professor and Chair, Department of Anthropology, Vanderbilt University, VU Station B #356050, 2301 Vanderbilt Place, Nashville, TN 37235, telephone (615) 343-2518, email s.wernke@vanderbilt.edu.

SUPPLEMENTARY INFORMATION: This notice is published as part of the National Park Service's administrative responsibilities under NAGPRA. The determinations in this notice are the sole responsibility of Vanderbilt University, and additional information on the determinations in this notice, including the results of consultation, can be found in its inventory or related records. The National Park Service is not responsible for the determinations in this notice.

Abstract of Information Available

Human remains representing, at least, 86 individuals have been identified. No associated funerary objects are present. In approximately the 1960s, human remains representing, at minimum, 86 individuals were removed from the Ganier site in a location near Bells Bend, Nashville (Davidson County), Tennessee. Vanderbilt University believes that the then-owner of the private property contacted Ronald Spores, Professor of Anthropology at Vanderbilt University, to excavate the human remains after they became visible following erosion affecting the riverbank where they had been buried. The human remains include those of individuals both male and female, ranging in age from infant to adult. No known individuals were identified.

Consultation

Vanderbilt University, through faculty member Tiffiny Tung, initiated consultation on October 7, 2021 with the following Indian Tribes: Alabama-Coushatta Tribe of Texas; Cherokee Nation; Coushatta Tribe of Louisiana; Eastern Band of Cherokee Indians; The Chickasaw Nation; The Muscogee (Creek) Nation; and the United Keetoowah Band of Cherokee Indians in Oklahoma.

Representatives from the Eastern Band of Cherokee Indians and The Chickasaw Nation responded to the invitation and participated in consultation with Vanderbilt University.

Cultural Affiliation

The following types of information about the cultural affiliation of the human remains in this notice are available: geographical. Specifically, the representative from The Chickasaw Nation noted that the location along the Cumberland River where the human remains were located could be linked to several federally recognized Indian Tribes. The representative for the Eastern Band of Cherokee Indians advised that the site falls within the traditional Cherokee aboriginal territory. The information, including the results of consultation, identified:

1. No earlier group connected to the human remains.

2. No Indian Tribe or Native Hawaiian organization connected to the human remains.

3. No relationship of shared group identity between the earlier group and the Indian Tribe or Native Hawaiian organization that can be reasonably traced through time.

Determinations

Officials of Vanderbilt University have determined that:

• The human remains described in this notice represent the physical remains of 86 individuals of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after January 17, 2025. If competing requests for repatriation are received, Vanderbilt University must determine the most appropriate requestor prior to repatriation. Requests for joint repatriation of the human remains are considered a single request and not competing requests. Vanderbilt University is responsible for sending a copy of this notice to any consulting lineal descendant, Indian Tribe, or Native Hawaiian organization.

Authority: Native American Graves Protection and Repatriation Act, 25 U.S.C. 3003, and the implementing regulations, 43 CFR 10.10.

Dated: December 11, 2024.
Melanie O'Brien,
Manager, National NAGPRA Program.

[FR Doc. 2024-29944 Filed 12-17-24; 8:45 am]

BILLING CODE 4312-52-P